DEPARTMENT OF COMMERCE

National Oceanic and Atmospheric Administration

Agency Information Collection Activities; Submission to the Office of Management and Budget (OMB) for Review and Approval; Comment Request; Groundfish Trawl Catcher Processor Economic Data Report (EDR)

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 21, 2020.

ADDRESSES: Interested persons are invited to submit written comments to Adrienne Thomas, NOAA PRA Officer, at Adrienne.thomas@noaa.gov. Please reference OMB Control Number 0648-0564 in the subject line of your comments. Do not submit Confidential Business Information or otherwise sensitive or protected information.

FOR FURTHER INFORMATION CONTACT: Requests for additional information or specific questions related to collection activities should be directed to Scott Miller, 907-586-7416.

SUPPLEMENTARY INFORMATION:

I. Abstract

The National Marine Fisheries Services (NMFS), Alaska Regional Office, is requesting extension of the currently approved information collection for the Annual Trawl Catcher/Processor Economic Data Report (the EDR).

The EDR collects economic data on the information for the Gulf of Alaska Trawl Groundfish Economic Data Report Program (GOA Trawl EDR Program) and for Amendment 80 to the Fishery Management Plan for Groundfish of the Bering Sea and Aleutian Islands Management Area.

The GOA Trawl EDR Program evaluates the economic effects of current and potential future fishery management measures for the GOA trawl fisheries. This program provides NMFS and the North Pacific Fishery Management Council (Council) with baseline economic information on affected harvesters, crew, processors, and communities in the GOA.

Amendment 80 primarily allocates several Bering Sea and Aleutian Islands non-pollock trawl groundfish fisheries among fishing sectors, and facilitates the formation of harvesting cooperatives among vessels in the non-American Fisheries Act (non-AFA) Trawl Catcher/Processor Cooperative Program. This program established a limited access privilege program for the non-AFA trawl catcher/processor sector.

Data collected through the EDR includes labor information, revenues received, capital and operational expenses, and other operational or financial data. NMFS and the Council use this to assess the economic effects of Amendment 80 on vessels or entities regulated by the non-AFA Trawl Catcher/Processor Cooperative Program, and impacts of major changes in the groundfish management regime, including allocation of prohibited species catch species and target species to harvesting cooperatives.

The EDR is submitted annually by each person who held an Amendment 80 Quota Share permit or was an owner or leaseholder of an Amendment 80 vessel, or was an owner or leaseholder of a vessel named on a License Limitation Program groundfish license with catcher/processor vessel and trawl gear designations and endorsed for the GOA during a calendar year. The EDR requirements are located at 50 CFR 679.94.

II. Method of Collection

Pacific States Marine Fisheries Commission (PSMFC) has been designated by NMFS as the Data Collection Agent. PSMFC mails EDR announcements and filing instructions to respondents by April 1 of each year. Respondents are encouraged to complete the form online on the PSMFC website at www.psmfc.org/goatrawl/. The EDR is also available as a fillable PDF on the PSFMC website and may be submitted by mail or fax.

III. Data

OMB Control Number: 0648-0564.

Form Number(s): None.

Type of Review: Regular submission (extension of a current information collection).

Affected Public: Individuals or households; Business or other for-profit organizations.

Estimated Number of Respondents: 30.

Estimated Time per Response: Annual Trawl Catcher/Processor Economic Data Report 22 hours.

Estimated Total Annual Burden Hours: 660 hours.

Estimated Total Annual Cost to Public: $35 in recordkeeping/reporting costs.

Respondent's Obligation: Mandatory.

Legal Authority: 16 U.S.C. 1801 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request (ICR). Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-15980 Filed 7-22-20; 8:45 am]

BILLING CODE 3510-22-P